GENERAL SERVICES ADMINISTRATION

[Notice-MRB-2024-05; Docket No. 2022-0002; Sequence No. 44]

Notice of First and Second Meetings of the Open Government Federal Advisory Committee

AGENCY: Office of Government-wide Policy, General Services Administration (GSA).

ACTION: Notice.

SUMMARY: The General Services Administration (GSA) is providing notice of the first and second meetings of the Open Government Federal Advisory Committee (hereinafter “the Committee” or “the OG FAC”). Both meetings are open to the public.

DATES: The GSA OG FAC will hold a virtual (webcast) administrative meeting, which is open to the public, on October 18, 2024, from 1 p.m. to 3:30 p.m. Eastern Daylight Time (EDT). The GSA OG FAC will hold a hybrid (webcast and in-person) open public meeting on October 23, 2024, from 1 p.m. to 3:30 p.m. EDT. We request that you register by 5 p.m. EDT October 17, 2024, and 5 p.m. EDT October 22, 2024, respectively. To receive the webcast information see registration information below.

ADDRESSES: The October 18, 2024 and October 23, 2024 meetings will be available via webcast. Registrants will receive the webcast information when they register for either or both meetings. The October 23, 2024 meeting is hybrid, the in-person location is the GSA Auditorium located at 1800 F Street NW, Washington, DC 20405. In-person registrants will receive building access information before the meeting.

FOR FURTHER INFORMATION CONTACT: Arthur Brunson, OG FAC Designated Federal Officer, Office of Government-wide Policy, 202-501-1126, or email: arthur.brunson@gsa.gov; or email: ogfac@gsa.gov.

SUPPLEMENTARY INFORMATION: The Administrator of the U.S. General Services Administration (GSA) established the Open Government Federal Advisory Committee (OG FAC) as a discretionary advisory committee under agency authority in accordance with the provisions of the Federal Advisory Committee Act (FACA), as amended, 5 U.S.C. 10.

The OG FAC will serve as an advisory body to GSA on GSA's Open Government initiatives including GSA's creation, implementation and monitoring of U.S. Open Government National Action Plans (NAPs) and commitment themes. The initial focus for the OG FAC will be to provide advice to GSA on the development of NAP 6, Open Government Policy, and Public Engagement. The OG FAC will advise GSA's Administrator on emerging open government issues, challenges and opportunities to support GSA's Open Government Secretariat.

Purpose of the Meetings

Meeting (1) October 18, 2024

The purpose of the first administrative meeting is to complete the OG FAC members onboarding process. The public is invited to attend this administrative meeting. The meeting is virtual-only and will be recorded.

October 18, 2024 Agenda

• Call to Order/Roll Call

• OG FAC Member Introductions

• Ethics Briefing

• Federal Advisory Committee Act (FACA) Overview

• Review Charter and By-laws

• Vote: Adoption of By-laws

• October 23, 2024 Meeting

• Closing Remarks and Adjournment

Meeting (2) October 23, 2024

The purpose of the second meeting is to review the OG FAC Charter, Purpose, and Goals, and to begin the Committee's work. The public is provided the opportunity to attend this hybrid and recorded meeting both in-person and virtually.

October 23, 2024 Agenda

• Call to Order/Roll Call

• Opening Remarks

• OG FAC Objectives and Priorities

• Open Government Secretariat Overview

• National Action Plan 6 Timeline Overview

• Oral Public Comments

• Closing Remarks and Adjournment

Registration Information

Registration is requested for in-person attendance and required for webcasts. An email address is requested so that we can provide you with information to access the meeting.

October 18, 2024 Virtual Only Registration

https://gsa.zoomgov.com/webinar/register/WN_XykOAOv1Tv-cex1nDOdmww.

October 23, 2024 Registration

In-Person Registration: https://forms.gle/ziF43BUKNnYZk6Ez7.

Virtual Registration: https://gsa.zoomgov.com/meeting/register/vJItdOisqT8tHn6XokpIvs1ZtLYmL2yFszc.

If you plan to attend the October 23, 2024, meeting in-person, you will go through security screening when you enter the building.

Meeting Materials

The meeting agendas and materials will be posted on our website at: https://www.gsa.gov/governmentwide-initiatives/us-open-government/open-government-federal-advisory-committee#tab—Committee-meetings, prior to the October 18, 2024 meeting and prior to the October 23, 2024.

Public Comment

Written public comments will be provided to OG FAC members in advance of the meeting if received by COB, Friday, October 11, 2024, for the Friday, October 18, 2024 meeting; and by COB, Wednesday, October 16, 2024, for the Wednesday, October 23, 2024 meeting, respectively. Written comments may be sent to ogfac@gsa.gov. We request all written comments have the relevant meeting date in the email subject line based on the due dates above.

If you wish to offer oral public comments during the public comments period of the October 23, 2024 meeting, you must register in advance. We request that you register by Tuesday, October 22, 2024, no later than 5 p.m. EDT. All oral public comments will be limited to three (3) minutes per individual and may be made in-person or virtually.

Special Accommodations

For information on services for individuals with disabilities, or to request accommodation of a disability, please contact the Designated Federal Officer at least 10 business days prior to the meeting to give GSA as much time as possible to process the request. Closed captioning and live ASL interpreter services are available.

Mehul Parekh,
Acting, Associate Administrator, Office of Government-wide Policy, General Services Administration.

[FR Doc. 2024-22406 Filed 9-30-24; 8:45 am]

BILLING CODE 6820-61-P